DEPARTMENT OF AGRICULTURE

Office of the Secretary

[Docket No. APHIS-2012-0104]

Privacy Act Systems of Records; Phytosanitary Certificate Issuance and Tracking System

AGENCY: Animal and Plant Health Inspection Service, USDA.

ACTION: Notice of a proposed new system of records.

SUMMARY: The Animal and Plant Health Inspection Service proposes to add a system of records to its inventory of records systems subject to the Privacy Act of 1974, as amended. The system of records is the Phytosanitary Certificate Issuance and Tracking System, USDA-APHIS-13. This notice is necessary to meet the requirements of the Privacy Act to publish in the Federal Register notice of the existence and character of record systems maintained by the agency.

DATES:

Effective Date: This system will be adopted without further notice on September 18, 2013 unless modified to respond to comments received from the public and published in a subsequent notice.

Comment Date: Comments must be received in writing on or before September 9, 2013.

ADDRESSES: You may submit comments by either of the following methods:

• Federal eRulemaking Portal: Go to http://www.regulations.gov/#!documentDetail;D=APHIS-2012-0104-0001.

• Postal Mail/Commercial Delivery: Send your comment to Docket No. APHIS-2012-0104, Regulatory Analysis and Development, PPD, APHIS, Station 3A-03.8, 4700 River Road, Unit 118, Riverdale, MD 20737-1238.

Supporting documents and any comments we receive on this docket may be viewed at http://www.regulations.gov/#!docketDetail;D=APHIS-2012-0104 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Christian B. Dellis, Export Services, Plant Health Programs, Plant Protection and Quarantine, APHIS, 4700 River Road Unit 140, Riverdale, MD 20737; (301) 851-2154.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, entitled Phytosanitary Certificate Issuance and Tracking (PCIT) System, that will be used to maintain records of activities conducted by the agency pursuant to its mission and responsibilities authorized by the Plant Protection Act (7 U.S.C. 7701 et seq.). Phytosanitary certificates are issued by authorized Federal, State, and county officials. They certify that consignments of plants, plant products, and other regulated articles intended for export have been inspected and meet the phytosanitary import requirements of the foreign country to which they are destined. There is a user fee charge for the inspection and certification services. Phytosanitary certificates accompany shipments to their foreign destinations and are reviewed by officials of the foreign plant protection service before the commodity is allowed entry into their country. U.S. exporters who require phytosanitary certificates for commodities offered for export must apply for them through the PCIT system.

The PCIT system provides a secure mechanism for applicants to provide information, including the name, address, and telephone number of the exporter or exporter's agent and the foreign consignee, which could be individuals but, in most cases, are companies or organizations. Applicants also must provide information about the articles to be exported. APHIS needs all of this information to evaluate the application, schedule and perform inspections and other phytosanitary activities, and issue phytosanitary certificates. Authorized Federal, State, and county certification officials enter data into the PCIT system regarding inspections, any required treatments, and other phytosanitary activities. The PCIT system also maintains information on user fees paid and accrued, although the system does not contain any financial information about applicants.

Applicants can use the PCIT system not only to apply for phytosanitary certificates, but also to check the status of their applications, view user fees accrued and paid, and track the status of phytosanitary certification. Foreign government officials can use the PCIT system to quickly verify the authenticity of a phytosanitary certificate.

APHIS may routinely share data in the PCIT system with State and county government officials who provide phytosanitary inspection services on behalf of the Federal Government. They use the information to evaluate applications; schedule and perform inspections and related phytosanitary activities; generate phytosanitary certificates; investigate complaints by a foreign country that a commodity for which a phytosanitary certificate was issued does not meet the country's phytosanitary requirements; and evaluate program quality and effectiveness. APHIS may also share data with certain Federal agencies, pursuant to the International Trade Data System Memorandum of Understanding, consistent with the receiving agency's authority to collect information pertaining to transactions in international trade. APHIS may also share data about an application for a phytosanitary certificate with the foreign government involved with the import.

Other routine uses of this information include releases related to investigations pertaining to violations of law or related to litigation. A complete listing of the routine uses for this system is included in the description of the system presented below.

Report on New System of Records

A report on the new system of records, required by 5 U.S.C. 552a(r), as implemented by Office of Management and Budget Circular A-130, has been sent to the Chairman, Committee on Homeland Security and Governmental Affairs, United States Senate; the Chairman, Committee on Oversight and Government Reform, House of Representatives; and the Administrator, Office of Information and Regulatory Affairs, Office of Management and Budget.

Thomas J. Vilsack,
Secretary.

SYSTEM NAME:

Phytosanitary Certificate Issuance and Tracking (PCIT) System, USDA-APHIS-13.

SECURITY CLASSIFICATION:

None.

SYSTEM LOCATION:

The system resides at USDA's National Information Technology Center (NITC) in Kansas City, MO. Back-up files are maintained in Riverdale, MD.

CATEGORIES OF INDIVIDUALS COVERED BY THE SYSTEM:

Individuals covered by the system include Federal, State, and county officials who issue phytosanitary certificates and exporters, exporters' agents, and foreign consignees.

CATEGORIES OF RECORDS IN THE SYSTEM:

Records may include applications for phytosanitary export certification and information about related inspections, treatments, other phytosanitary activities, and phytosanitary certificates issued. These records include names, addresses, and telephone numbers of exporters, exporters' agents, and foreign consignees, and names, office addresses, and telephone numbers of Federal, State, and county officials who issue phytosanitary certificates. Records may also include information on user fees paid and accrued, although the system does not contain any financial information about applicants.

AUTHORITY FOR MAINTENANCE OF THE SYSTEM:

The Plant Protection Act (7 U.S.C. 7701 et seq.).

PURPOSE(S):

The PCIT system is a secure system for applying for, evaluating, tracking the status of, and issuing phytosanitary certificates for plants, plant products, and other regulated articles intended for export. Routine uses of records maintained in the system, including categories of users and the purposes of such uses:

In addition to those disclosures generally permitted under 5 U.S.C. 552a(b) of the Privacy Act, records maintained in the system may be disclosed outside USDA as follows:

(1) To certain State and county government regulatory officials to evaluate applications; schedule and perform inspections and related phytosanitary activities; generate phytosanitary certificates; investigate complaints about noncompliance with phytosanitary requirements; and evaluate program quality and effectiveness;

(2) To certain Federal agencies, pursuant to the International Trade Data System Memorandum of Understanding, consistent with the receiving agency's authority to collect information pertaining to transactions in international trade;

(3) To certain foreign governments concerning applications for phytosanitary certificates involving that country;

(4) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(5) To the Department of Justice when: (a) The agency, or any component thereof; or (b) any employee of the agency in his or her official capacity; or (c) any employee of the agency in his or her individual capacity where the Department of Justice has agreed to represent the employee; or (d) the United States is a party to litigation or has an interest in such litigation, and the use of such records by the Department of Justice is deemed by the agency to be relevant and necessary to the litigation; provided, however, that in each case, the agency determines that disclosure of the records to the Department of Justice is a use of the information contained in the records that is compatible with the purpose for which the records were collected;

(6) For use in a proceeding before a court or adjudicative body before which the agency is authorized to appear, when: (a) The agency, or any component thereof; or (b) any employee of the agency in his or her official capacity; or (c) any employee of the agency in his or her individual capacity where the agency has agreed to represent the employee; or (d) the United States is a party to litigation or has an interest in such litigation, and the agency determines that use of such records is relevant and necessary to the litigation; provided, however, that in each case, the agency determines that disclosure of the records to the court is a use of the information contained in the records that is compatible with the purpose for which the records were collected;

(7) To appropriate agencies, entities, and persons when: (a) The agency suspects or has confirmed that the security or confidentiality of information in the system of records has been compromised; (b) the agency has determined that as a result of the suspected or confirmed compromise there is a risk of harm to economic or property interests, a risk of identity theft or fraud, or a risk of harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm;

(8) To contractors engaged to assist in administering the program. Such contractors will be bound by the nondisclosure provisions of the Privacy Act;

(9) To USDA contractors, partner agency employees or contractors, or private industry employed to identify patterns, trends, or anomalies indicative of fraud, waste, or abuse; and

(10) To the National Archives and Records Administration for records management inspections conducted under 44 U.S.C. 2904 and 2906.

DISCLOSURE TO CONSUMER REPORTING AGENCIES:

None.

Policies and practices for storing, retrieving, accessing, retaining, and disposing of records in the system:

STORAGE:

The system is an electronic database stored on servers in a secure government-owned facility. APHIS maintains back-up files on external hard drives kept in locked cabinets at APHIS headquarters.

RETRIEVABILITY:

APHIS may retrieve records by the name of the applicant (exporter or exporter's agent who applied for the phytosanitary certificate) and by the name of the Federal, State, or county official who issued the phytosanitary certificate.

SAFEGUARDS:

The PCIT system has management, operational, and technical controls to prevent misuse of data by system users. These controls include the use of role-based security and access rights and network firewalls. All users must have e-Authentication credentials through USDA and employ their individual e-Authentication user identification and password to access the PCIT system. Users may only view information specific to their role in the export system. The exporter has access only to the information of his or her organization. Government officials involved in the export of commodities will have access only to data within their purview. Access to the system is monitored by USDA officials to ensure authorized and appropriate use of the data.

RETENTION AND DISPOSAL:

Records in the PCIT system are retained indefinitely.

SYSTEM MANAGERS(S) AND ADDRESS:

Director, Export Services, Plant Health Programs, PPQ, APHIS, 4700 River Road Unit 140, Riverdale, MD 20737.

NOTIFICATION PROCEDURE:

Any individual may request general information regarding this system of records or information as to whether the system contains records pertaining to him/her from the system manager at the address above. All inquiries pertaining to this system should be in writing, must name the system of records as set forth in the system notice, and must contain the individual's name, telephone number, address, and email address.

RECORD ACCESS PROCEDURES:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

CONTESTING RECORD PROCEDURES:

Any individual may contest information contained within a record in the system that pertains to him/her by submitting a written request to the system manager at the address above. Include the reason for contesting the record and the proposed amendment to the information with supporting documentation to show how the record is inaccurate.

RECORD SOURCE CATEGORIES:

Information in this system about individuals comes primarily from applicants for a phytosanitary certificate.

EXEMPTIONS CLAIMED FOR THE SYSTEM:

None.

[FR Doc. 2013-19230 Filed 8-8-13; 8:45 am]

BILLING CODE 3410-34-P